DEPARTMENT OF TRANSPORTATION

Surface Transportation Board

[STB Ex Parte No. 558 (Sub-No. 7)]

Railroad Cost of Capital—2003

AGENCY: Surface Transportation Board.

ACTION: Notice of decision instituting a proceeding to determine the railroads' 2003 cost of capital.

SUMMARY: The Board is instituting a proceeding to determine the railroad industry's cost of capital for 2003. The decision solicits comments on: (1) The railroads' 2003 current cost of debt capital; (2) the railroads' 2003 current cost of preferred stock equity capital; (3) the railroads' 2003 cost of common stock equity capital; and (4) the 2003 capital structure mix of the railroad industry on a market value basis.

DATES: Notices of intent to participate are due no later than January 12, 2004. Statements of the railroads are due by March 29, 2004. Statements of other interested persons are due by April 26, 2004. Rebuttal statements by the railroads are due by May 17, 2004.

ADDRESSES: Send an original and 10 copies of statements and a copy of the statement on a 3.5 inch disk in WordPerfect 9.0, and an original and 1 copy of the notice of intent to participate to: Surface Transportation Board, Case Control Branch, 1925 K Street, NW., Washington, DC 20423-0001.

FOR FURTHER INFORMATION CONTACT: Leonard J. Blistein, (202) 565-1529. (Federal Information Relay Service (FIRS) for the hearing impaired: 1 (800) 877-8339.)

SUPPLEMENTARY INFORMATION: The Board's decision is posted on the Board's Web site, http://www.stb.dot.gov. In addition, copies of the decision may be purchased from ASAP Document Solutions by calling 202-293-7878 (assistance for the hearing impaired is available through FIRS at 1-800-877-8339), or by visiting Suite 405, 1925 K Street, NW., Washington, DC 20006, or by email at asapdoc@verizon.net.

We preliminarily conclude that the proposed action will not significantly affect either the quality of the human environment or the conservation of energy resources.

Authority: 49 U.S.C. 10704(a).

Decided: December 4, 2004.
By the Board, Chairman Nober.
Vernon A. Williams,
Secretary.

[FR Doc. 03-30620 Filed 12-10-03; 8:45 am]

BILLING CODE 4915-00-P